DEPARTMENT OF ENERGY

Federal Energy Regulatory Commission

[Docket No. RP04-213-000]

MIGC, Inc.; Notice of Tariff Filing

March 16, 2004.

Take notice that on March 10, 2004, MIGC, Inc. (MIGC) tendered for filing as part of its FERC Gas Tariff, First Revised Volume No.1, the following tariff sheets, to become effective May 1, 2004:

Second Revised Sheet No. 32

Fourth Revised Sheet No. 66A

Original Sheet No. 66B

Fifth Revised Sheet No. 69

Fourth Revised Sheet No. 70

First Revised Sheet No. 70A

First Revised Sheet No. 82A

Fifth Revised Sheet No. 85

MIGC asserts that the purpose of this filing is to update MIGC's tariff to combine revisions which were previously approved in separate proceedings, and to incorporate the correction of a minor word processing error. MIGC states that these proposed revisions are necessary to finalize MIGC's compliance with FERC Order No. 637 in Docket No. RP00-42 and this application does not represent any new changes to MIGC's tariffs.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-650 Filed 3-22-04; 8:45 am]

BILLING CODE 6717-01-P